ELECTION ASSISTANCE COMMISSION

Sunshine Act Notice

AGENCY: U.S. Election Assistance Commission.

ACTION: Notice of Public Meeting.

Date and Time: Monday, December 8, 2008, 10 a.m.-4 p.m.

Place: U.S. Election Assistance Commission, 1225 New York Ave., NW., Suite 150, Washington, DC 20005, (Metro Stop: Metro Center).

Agenda: Commissioners will elect officers for 2009. Commissioners will consider the following items: a draft working group policy and an EAC strategic plan. Commissioners will receive an Election Day 2008 EAC Activity Report. Commissioners will receive an update on the 2008 Election Day Survey. The Commission will consider other administrative matters. Commissioners will hold a closed session discussion about the EAC general counsel position.

This meeting will be open to the public except for the closed session discussion about the EAC general counsel position.

Person to Contact for Information: Bryan Whitener, Telephone: (202) 566-3100.

Thomas R. Wilkey,
Election Director, U.S. Election Assistance Commission.

[FR Doc. E8-27797 Filed 11-19-08; 11:15 am]

BILLING CODE 6820-KF-P